DEPARTMENT OF THE INTERIOR

Bureau of Land Management

[OR-056-04-1430-ES; GP4-0151]

Termination of Classification and Order Providing for Opening of Land, OR 40119

AGENCY: Bureau of Land Management (BLM), Interior.

ACTION: Notice.

SUMMARY: This notice terminates the existing classification in its entirety for public lands that were classified as suitable for lease/disposal pursuant to the Recreation and Public Purposes Act of June 14, 1926 (44 Stat. 741), as amended, and opens 20.00 acres of land to surface entry, and mining, subject to the existing laws, rules, and regulations applicable to public lands administered by the Bureau of Land Management. The land has been and will remain open to mineral leasing.

DATES: Effective Date: May 25, 2004.

FOR FURTHER INFORMATION CONTACT: Phyllis Gregory, BLM, Oregon/Washington State Office, P.O. Box 2965, Portland, OR 97208, 503-808-6188.

SUPPLEMENTARY INFORMATION: On April 23, 1987, 20.00 acres of public land under the jurisdiction of the Bureau of Land Management were classified as suitable for lease pursuant to the Recreation and Public Purposes Act of June 14, 1926 (44 Stat. 741), as amended, and the regulations at 43 CFR part 2400. Upon classification the land was leased to the LaPine Rodeo Association for the construction, operation, and maintenance of rodeo grounds and facilities for a term of 10 years under BLM Serial Number OR 40119. On June 25, 1997, this lease expired.

The formerly leased land is described as follows:

Willamette Meridian, Oregon

T. 23 S., R. 10 E.,

Sec. 3, SE¼ SE¼.

The area described contains 20.00 acres in Klamath County, Oregon.

At 8:30 a.m., on June 24, 2004, the land will be opened to operation of the public land laws generally, but not to location or entry, subject to valid existing rights, the provisions of existing withdrawals, and the requirements of applicable law. All valid existing applications received at or prior to 8:30 a.m., on June 24, 2004, will be considered as simultaneously filed at that time. Those received thereafter will be considered in the order of filing.

At 8:30 a.m., on July 9, 2004, the land will be opened to location and entry under the United States mining laws. Appropriation under the general mining laws prior to the date and time of restoration is unauthorized. Any such attempted appropriation, including attempted adverse possession under 30 U.S.C. Sec. 38, shall vest no rights against the United States. Acts required to establish a location and to initiate a right of possession are governed by State law where not in conflict with Federal law. The Bureau of Land Management will not intervene in disputes between rival locators over possessory rights since Congress has provided for such determination in local courts.

Dated: April 9, 2004.
Sherrie L. Reid,
Acting Chief, Branch of Realty and Records Services.

[FR Doc. 04-11727 Filed 5-24-04; 8:45 am]

BILLING CODE 4310-33-P